DEPARTMENT OF LABOR

Agency Information Collection Activities; Submission for OMB Review and Approval; Comment Request; Youth CareerConnect (YCC) Grant Program, Extension of Previously Approved Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents are properly assessed.

Currently, DOL is soliciting comments concerning the continued collection of data about Youth Career Connect (YCC) [SGA/DFA PY-13-01] grant program. A copy of the proposed Information Collection Request (ICR) can be obtained by contacting the office listed below in the addressee section of this notice.

DATES: Written comments must be submitted to the office listed in the addressee's section below on or before May 7, 2018.

ADDRESSES: You may submit comments by either one of the following methods:

Email: ChiefEvaluationOffice@dol.gov; Mail or Courier: Jessica Lohmann, Chief Evaluation Office, OASP, U.S. Department of Labor, Room S-2312, 200 Constitution Avenue NW., Washington, DC 20210.

Instructions: Please submit one copy of your comments by only one method. All submissions received must include the agency name and OMB Control Number identified above for this information collection. Comments, including any personal information provided, become a matter of public record. They will also be summarized and/or included in the request for OMB approval of the information collection request.

FOR FURTHER INFORMATION CONTACT: Jessica Lohmann by email at ChiefEvaluationOffice@dol.gov.

SUPPLEMENTARY INFORMATION:

I. Background: The information collection activities described in this notice will provide participant and grantee data on the YCC program. In spring 2014, the Employment and Training Administration (ETA) in DOL awarded 24 grantees to implement the YCC program, which is designed to provide high school students skill-developing and work-based learning opportunities through partnerships with colleges and employers for jobs in high-demand occupations. DOL requests data collection from YCC grantees for tracking grant progress and oversight of program performance reporting. This reporting structure features standardized individual data collection on program participants in both quarterly performance and narrative formats. The information collection for YCC grantee performance reporting also includes an online Participant Tracking System (PTS) that collects participant-level data.

This document requests approval for an extension of previously approved information collection (OMB Control No. 1291-0002) to continue to meet the reporting and recordkeeping requirements of the YCC grant program. This information collection maintains a reporting and record-keeping system for a minimum level of information collection that is necessary to comply with Equal Opportunity requirements, to hold YCC grantees appropriately accountable for the Federal funds they receive, allowing the Department to fulfill its oversight and management responsibilities.

II. Desired Focus of Comments: Currently, DOL is soliciting comments concerning the above data collection for grantee reporting on the YCC program. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology—for example, permitting electronic submission of responses.

III. Current Actions: At this time, DOL is requesting clearance for grantee reporting on participant-level data and quarterly reports.

Type of Review: Extension of previously approved collection.

OMB Control Number: 1291-0002 (ICR Reference No: 201412-1291-001).

Affected Public: YCC Grantees and program participants.

Estimated Burden Hours
Type of instrument | Total number of respondents | Annual number of respondents | Number of responses per respondent | Average burden hour per response | Annual estimated burden hours
Participant-level Data Collection for Participant Tracking System (PTS) | 9,900 | 3,300 | 1 | 2.67 | 8,811
Quarterly Narrative Progress Reports | 24 | 8 | 4 | 10 | 320
Quarterly Performance Reports | 24 | 8 | 4 | 4 | 128
Total | 9,948 | 3,316 |  |  | 9,226

Comments submitted in response to this request will be summarized and/or included in the request for Office of Management and Budget approval of the information collection request; they will also become a matter of public record.

Dated: February 27, 2018.
Molly Irwin,
Chief Evaluation Officer, U.S. Department of Labor.

[FR Doc. 2018-04545 Filed 3-5-18; 8:45 am]

BILLING CODE 4510-HX-P